DEPARTMENT OF DEFENSE

Department of the Air Force

HQ USAF Scientific Advisory Board; Notice of Meeting

AGENCY: Department of the Air Force, HQ USAF Scientific Advisory Board, DOD.

ACTION: Notice.

SUMMARY: The Air Force Scientific Advisory Board (SAB) will meet on 10 April 2007 at Air Intelligence Agency (AIA), Lackland Air Force Base, TX. The purpose of the meeting is to hold the SAB Spring quarterly meeting. The day will be spent in classified briefings and discussion with Air Intelligence Agency to learn about their roles and mission. Visits will also be made to various tenant units also at Lackland Air Force Base. Pursuant to 5 U.S.C. 552b, as amended and 41 CFR 102-3.155, the Department of Defense has determined that the meeting shall be closed to the public. The Administrative Assistant to the Secretary of the Air Force, in consultation with the Office of the Air Force General Counsel, has determined in writing that the public interest requires that all sessions of this meeting be closed to the public because they will be concerned with matters listed in section 552b(c)(1) and (9)(B) of Title 5 United States Code.

FOR FURTHER INFORMATION CONTACT: Lieutenant Colonel Kyle Gresham, Executive Director, Air Force Scientific Advisory Board, 1180 Air Force Pentagon, Washington, DC 20330-1040, (703) 697-4811.

Bao-Anh Trinh,
Air Force Federal Register Liaison Officer.

[FR Doc. E7-5447 Filed 3-23-07; 8:45 am]

BILLING CODE 5000-04-P